DEPARTMENT OF HOMELAND SECURITY

Federal Emergency Management Agency

[Docket ID FEMA-2014-0002; Internal Agency Docket No. FEMA-B-1419]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before October 7, 2014.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1419, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

I. Watershed-Based Studies

Lower Susquehanna Watershed
Community | Community map repository address
Lancaster County, Pennsylvania (All Jurisdictions)
Maps Available for Inspection Online at: http://www.fema.gov/preliminaryfloodhazarddata
Borough of Adamstown | Borough Office, 3000 North Reading Road, Adamstown, PA 19501.
Borough of Akron | Borough Office, 117 South 7th Street, Akron, PA 17501.
Borough of Christiana | Borough Hall, 10 West Slokom Avenue, Christiana, PA 17509.
Borough of Columbia | Borough Hall, 308 Locust Street, Columbia, PA 17512.
Borough of Denver | Borough Office, 501 Main Street, Denver, PA 17517.
Borough of East Petersburg | Borough Hall, 6040 Main Street, East Petersburg, PA 17520.
Borough of Elizabethtown | Borough Office, 600 South Hanover Street, Elizabethtown, PA 17022.
Borough of Ephrata | Borough Office, 124 South State Street, Ephrata, PA 17522.
Borough of Lititz | Borough Office, 7 South Broad Street, Lititz, PA 17543.
Borough of Manheim | Borough Office, 15 East High Street, Manheim, PA 17545.
Borough of Marietta | Borough Office, 111 East Market Street, Marietta, PA 17547.
Borough of Millersville | Borough Office, 100 Municipal Drive, Millersville, PA 17551.
Borough of Mount Joy | Borough Office, 21 East Main Street, Mount Joy, PA 17552.
Borough of Mountville | Borough Office, 21 East Main Street, Mountville, PA 17554.
Borough of Quarryville | Borough Office, 300 Saint Catherine Street, Quarryville, PA 17566.
Borough of Strasburg | Borough Office, 145 Precision Avenue, Strasburg, PA 17579.
City of Lancaster | Lancaster Municipal Building, 120 North Duke Street, Lancaster, PA 17608.
Township of Bart | Bart Township Office, 46 Quarry Road, Quarryville, PA 17566.
Township of Brecknock | Brecknock Township Office, 1026 Dry Tavern Road, Denver, PA 17517.
Township of Caernarvon | Caernarvon Township Office, 2147 Main Street, Narvon, PA 17555.
Township of Clay | Clay Township Office, 870 Durlach Road, Stevens, PA 17578.
Township of Colerain | Colerain Township Office, 1803 Kirkwood Pike, Kirkwood, PA 17536.
Township of Conestoga | Township Municipal Building, 3959 Main Street, Conestoga, PA 17516.
Township of Conoy | Conoy Township Office, 211 Falmouth Road, Bainbridge, PA 17502.
Township of Drumore | Township Office, 1675 Furniss Road, Drumore, PA 17518.
Township of Earl | Earl Township Office, 517 North Railroad Avenue, New Holland, PA 17557.
Township of East Cocalico | East Cocalico Township Office, 100 Hill Road, Denver, PA 17517.
Township of East Donegal | East Donegal Municipal Building, 190 Rock Point Road, Marietta, PA 17547.
Township of East Drumore | East Drumore Township Municipal Building, 925 Robert Fulton Highway, Quarryville, PA 17566.
Township of East Earl | Municipal Building, 4610 Division Highway, East Earl, PA 17519.
Township of East Hempfield | East Hempfield Township Office, 1700 Nissley Road, Landisville, PA 17538.
Township of East Lampeter | East Lampeter Township Office, 2250 Old Philadelphia Pike, Lancaster, PA 17602.
Township of Eden | Eden Township Office, 489 Stony Hill Road, Quarryville, PA 17566.
Township of Elizabeth | Elizabeth Township Office, 423 South View Drive, Lititz, PA 17543.
Township of Ephrata | Township Office, 265 Akron Road, Ephrata, PA 17522.
Township of Fulton | Fulton Municipal Building, 777 Nottingham Road, Peach Bottom, PA 17563.
Township of Lancaster | Township Municipal Building, 1240 Maple Avenue, Lancaster, PA 17603.
Township of Leacock | Leacock Township Office, 3545 West Newport Road, Intercourse, PA 17534.
Township of Little Britain | Little Britain Municipal Building, 323 Green Lane, Quarryville, PA 17566.
Township of Manheim | Manheim Township Office, 1840 Municipal Drive, Lancaster, PA 17601.
Township of Manor | Manor Township Office, 950 West Fairway Drive, Lancaster, PA 17603.
Township of Martic | Martic Municipal Building, 370 Steinman Farm Road, Pequea, PA 17565.
Township of Mount Joy | Mount Joy Township Office, 159 Merts Drive, Elizabethtown, PA 17022.
Township of Paradise | Township Office, 2 Township Drive, Paradise, PA 17562.
Township of Penn | Penn Township Office, 97 North Penryn Road, Manheim, PA 17545.
Township of Pequea | Pequea Township Office, 1028 Millwood Road, Willow Street, PA 17584.
Township of Providence | Providence Township Office, 200 Mount Airy Road, New Providence, PA 17560.
Township of Rapho | Rapho Township Office, 971 North Colebrook Road, Manheim, PA 17545.
Township of Sadsbury | Sadsbury Township Office, 7182 White Oak Road, Christiana, PA 17509.
Township of Salisbury | Salisbury Township Office, 5581 Old Philadelphia Pike, Gap, PA 17527.
Township of Strasburg | Township Office, 400 Bunker Hill Road, Strasburg, PA 17579.
Township of Upper Leacock | Upper Leacock Township Office, 36 Hillcrest Avenue, Leola, PA 17540.
Township of Warwick | Warwick Township Office, 315 Clay Road, Lititz, PA 17543.
Township of West Cocalico | West Cocalico Township Office, 156B West Main Street, Reinholds, PA 17569.
Township of West Donegal | West Donegal Township Office, 1 Municipal Drive, Elizabethtown, PA 17022.
Township of West Earl | West Earl Township Office, 157 West Metzler Road, Brownstown, PA 17508.
Township of West Hempfield | West Hempfield Township Office, 3401 Marietta Avenue, Lancaster, PA 17601.
Township of West Lampeter | West Lampeter Township Office, 852 Village Road, Lampeter, PA 17537.
York County, Pennsylvania (All Jurisdictions)
Maps Available for Inspection Online at: http://www.fema.gov/preliminaryfloodhazarddata
Borough of Cross Roads | Cross Roads Borough Secretary's Office, 14771 Cross Mill Road, Felton, PA 17322.
Borough of Delta | Borough Office, 101 College Avenue, Delta, PA 17314.
Borough of Dillsburg | Municipal Building, 151 South Baltimore Street, Dillsburg, PA 17019.
Borough of Dover | Borough Hall, 46 Butter Road, Dover, PA 17315.
Borough of Fawn Grove | Citizens Volunteer Fire Company, 171 South Market Street, Fawn Grove, PA 17321.
Borough of Felton | Borough Office, 88 Main Street, Felton, PA 17322.
Borough of Glen Rock | Borough Building, 1 Manchester Street, Glen Rock, PA 17327.
Borough of Goldsboro | Goldsboro Municipal Building, 53 North York Street, Etters, PA 17319.
Borough of Hallam | Borough Building, 250 West Beaver Street, Hallam, PA 17406.
Borough of Hanover | Borough Office, 44 Frederick Street, Hanover, PA 17331.
Borough of Jacobus | Borough Office, 126 North Cherry Lane, Jacobus, PA 17407.
Borough of Jefferson | Jefferson Borough Office, 48 Baltimore Street, Codorus, PA 17311.
Borough of Lewisberry | Borough Community Center, 308 Market Street, Lewisberry, PA 17339.
Borough of Manchester | Borough Hall, 225 South Main Street, Manchester, PA 17345.
Borough of Mount Wolf | Borough Office, 345 Chestnut Street, Mount Wolf, PA 17347.
Borough of New Freedom | Borough Office, 49 East High Street, New Freedom, PA 17349.
Borough of North York | North York Municipal Building, 350 East Sixth Avenue, York, PA 17404.
Borough of Railroad | Borough Office, 2 East Main Street, Railroad, PA 17355.
Borough of Seven Valleys | Borough Office, 9 Maple Street, Seven Valleys, PA 17360.
Borough of Spring Grove | Borough Office, 1 Campus Avenue, Spring Grove, PA 17362.
Borough of Wellsville | Borough Office, 299 Main Street, Wellsville, PA 17365.
Borough of Windsor | Borough Building, 2 East Main Street, Windsor, PA 17366.
Borough of Wrightsville | Municipal Office, 601 Water Street, Wrightsville, PA 17368.
Borough of Yoe | Borough Building, 150 North Maple Street, Yoe, PA 17313.
Borough of York Haven | Borough Hall, 2 Pennsylvania Avenue, Storage Room, York Haven, PA 17370.
City of York | Department of Public Works, 101 South George Street, York, PA 17401.
Township of Carroll | Carroll Township Municipal Building, 555 Chestnut Grove Road, Dillsburg, PA 17019.
Township of Chanceford | Chanceford Community Building, 51 Muddy Creek Forks Road, Brogue, PA 17309.
Township of Codorus | Codorus Township Building, 4631 Shaffers Church Road, Glenville, PA 17329.
Township of Conewago | Conewago Township Secretary's Office, 490 Copenhaffer Road, York, PA 17404.
Township of Dover | Township Building, 2480 West Canal Road, Dover, PA 17315.
Township of East Hopewell | East Hopewell Township Office, 8916 Hickory Road, Felton, PA 17322.
Township of East Manchester | East Manchester Township Office, 5080 North Sherman Street Extension, Mount Wolf, PA 17347.
Township of Fairview | Fairview Township Building, 599 Lewisberry Road, New Cumberland, PA 17070.
Township of Fawn | Fawn Township Office, 245 Alum Rock Road, New Park, PA 17352.
Township of Franklin | Franklin Township Building, 150 Century Lane, Dillsburg, PA 17019.
Township of Heidelberg | Heidelberg Township Building, 6424 York Road, Spring Grove, PA 17362.
Township of Hellam | Hellam Township Office, 44 Walnut Springs Road, York, PA 17406.
Township of Hopewell | Hopewell Township Building, 3336 Bridgeview Road, Stewartstown, PA 17363.
Township of Jackson | Jackson Township Municipal Building, 439 Roth's Church Road, Spring Grove, PA 17362.
Township of Lower Chanceford | Lower Chanceford Township Building, 4120 Delta Road, Airville, PA 17302.
Township of Lower Windsor | Lower Windsor Township Building, 2425 Craley Road, Wrightsville, PA 17368.
Township of Manchester | Manchester Township Building, 3200 Farmtrail Road, York, PA 17406.
Township of Manheim | Manheim Township Building, 5191 Wool Mill Road, Glenville, PA 17329.
Township of Monaghan | Monaghan Township Municipal Office, 202 South York Road, Dillsburg, PA 17019.
Township of Newberry | Newberry Township Building, 1915 Old Trail Road, Etters, PA 17319.
Township of North Codorus | North Codorus Township Municipal Building, 1986 Stoverstown Road, Spring Grove, PA 17362.
Township of North Hopewell | North Hopewell Township Building, 13081 High Point Road, Felton, PA 17322.
Township of Paradise | Paradise Township Municipal Building, 82 Beaver Creek Road, Abbottstown, PA 17301.
Township of Peach Bottom | Peach Bottom Township Office, 529 Broad Street Extension, Delta, PA 17314.
Township of Penn | Penn Township Municipal Building, 20 Wayne Avenue, Hanover, PA 17331.
Township of Shrewsbury | Shrewsbury Township Municipal Building, 11505 Susquehanna Trail South, Glen Rock, PA 17327.
Township of Spring Garden | Spring Garden Township Zoning Office, 558 South Ogontz Street, York, PA 17403.
Township of Springettsbury | Springettsbury Township Community Development Department, 1501 Mount Zion Road, York, PA 17402.
Township of Springfield | Springfield Township Administrative Building, 9211 Susquehanna Trail South, Seven Valleys, PA 17360.
Township of Warrington | Warrington Township Municipal Builing, 3345 Rosstown Road, Wellsville, PA 17365.
Township of Washington | Washington Township Municipal Building, 14 Creek Road, East Berlin, PA 17316.
Township of West Manchester | West Manchester Township Building, 380 East Berlin Road, York, PA 17408.
Township of West Manheim | West Manheim Township Office, 2412 Baltimore Pike, Hanover, PA 17331.
Township of Windsor | Windsor Township Municipal Office, 1480 Windsor Road, Red Lion, PA 17356.
Township of York | York Township Complex, Engineering Department, 190 Oak Road, Dallastown, PA 17313.

II. Non-Watershed-Based Studies

Community | Community map repository address
Delaware County, New York (All Jurisdictions)
Maps Available for Inspection Online at: http://www.fema.gov/preliminaryfloodhazarddata
Town of Andes | Town Hall, 115 Delaware Avenue, Andes, NY 13731.
Town of Bovina | Bovina Town Clerk's Office, 1866 County Highway 6, Bovina Center, NY 13740.
Town of Colchester | Colchester Town Hall, 72 Tannery Road, Downsville, NY 13755.
Town of Delhi | Town Clerk's Office, 5 Elm Street, Delhi, NY 13753.
Town of Franklin | Town Hall, 554 Main Street, Franklin, NY 13775.
Town of Hamden | Town Hall, Corner of Route 10 and Covert Hollow Road, Hamden, NY 13782.
Town of Harpersfield | Town Hall, 25399 State Highway 23, Harpersfield, NY 13786.
Town of Kortright | Kortright Town Hall, 51702 State Highway 10, Bloomville, NY 13739.
Town of Meredith | Town Hall, 4247 Turnpike Road, Meredith, NY 13806.
Town of Middletown | Middletown Building and Zoning Office, 42339 State Highway 28, Margaretville, NY 12455.
Town of Roxbury | Town Hall, 53690 State Highway 30, Roxbury, NY 12474
Town of Stamford | Stamford Town Hall, 101 Maple Avenue, Hobart, NY 13788..
Town of Tompkins | Tompkins Town Hall, 148 Bridge Street, Trout Creek, NY 13847.
Town of Walton | Town Hall, 129 North Street, Walton, NY 13856.
Village of Delhi | Village Hall, 9 Court Street, Delhi, NY 13753.
Village of Fleischmanns | Village Hall, 1017 Main Street, Fleischmanns, NY 12430.
Village of Hobart | Community Center, 80 Cornell Avenue, Hobart, NY 13788.
Village of Margaretville | Village Hall, 773 Main Street, Margaretville, NY 12455.
Village of Stamford | Village Hall, 84 Main Street, Stamford, NY 12167.
Village of Walton | Village Hall, 21 North Street, Walton, NY 13856.
Rensselaer County, New York (All Jurisdictions)
Maps Available for Inspection Online at: http://www.fema.gov/preliminaryfloodhazarddata
Town of Hoosick | Hoosick Town Building Department, New York State Armory, 80 Church Street, Hoosick Falls, NY 12090.
Town of Pittstown | Pittstown Town Hall, 97 Tomhannock Road, Valley Falls, NY 12185.
Town of Schaghticoke | Schaghticoke Town Hall, 290 Northline Drive, Melrose, NY 12121.
Village of Hoosick Falls | Municipal Building, 24 Main Street, Hoosick Falls, NY 12090.
Village of Schaghticoke | Municipal Building, 163 Main Street, Schaghticoke, NY 12154.
Village of Valley Falls | Village Office, 11 Charles Street, Valley Falls, NY 12185.
Delaware County, Pennsylvania (All Jurisdictions)
Maps Available for Inspection Online at: http://www.fema.gov/preliminaryfloodhazarddata
Borough of Eddystone | Eddystone Borough Engineering Office, 520 West MacDade Boulevard, Milmont Park, PA 19033.
Borough of Folcroft | Borough Hall, 1555 Elmwood Avenue, Folcroft, PA 19032.
Borough of Marcus Hook | Municipal Building, 1015 Green Street, Marcus Hook, PA 19061.
Borough of Norwood | Borough Hall, 10 West Cleveland Avenue, Norwood, PA 19074.
Borough of Prospect Park | Borough Building, 720 Maryland Avenue, Prospect Park, PA 19076.
Borough of Trainer | Borough Hall, 824 Main Street, Trainer, PA 19061.
City of Chester | Planning Department, 1 Fourth Street, Chester, PA 19013.
Township of Ridley | Ridley Township Office, 100 East MacDade Boulevard, Folsom, PA 19033.
Township of Tinicum | Tinicum Township Hall, 629 North Governor Printz Boulevard, Essington, PA 19029.
Bastrop County, Texas, and Incorporated Areas
Maps Available for Inspection Online at: http://www.fema.gov/preliminaryfloodhazarddata
Unincorporated Areas of Bastrop County | Bastrop County Courthouse, 806 Water Street, Bastrop, TX 78602.
Travis County, Texas, and Incorporated Areas
Maps Available for Inspection Online at: http://www.fema.gov/preliminaryfloodhazarddata
City of Austin | Watershed Engineering Division, 505 Barton Springs Road, 12th Floor, Austin, TX 78704.
City of Creedmoor | City Hall, 5008 Hartung Lane, Creedmoor, TX 78610.
City of Mustang Ridge | City Offices, 12800 U.S. Highway 183 South, Mustang Ridge, TX 78610.
Unincorporated Areas of Travis County | Travis County Transportation and Natural Resources Department, 700 Lavaca Street, 5th Floor, Austin, TX 78701.
Wight County, Virginia, and Incorporated Areas
Maps Available for Inspection Online at: http://www.fema.gov/preliminaryfloodhazarddata
Town of Smithfield | Planning, Engineering and Public Works Department, 310 Institute Street, Smithfield, VA 23430.
Unincorporated Areas of Isle of Wight County | Isle of Wight County Planning and Zoning Department, 17140 Monument Circle, Suite 201, Isle of Wight, VA 23397.

(Catalog of Federal Domestic Assistance No. 97.022, “Flood Insurance.”)

Dated: June 26, 2014.
Roy E. Wright,
Deputy Associate Administrator for Mitigation, Department of Homeland Security, Federal Emergency Management Agency.

[FR Doc. 2014-16051 Filed 7-8-14; 8:45 am]

BILLING CODE 9110-12-P